DEPARTMENT OF VETERANS AFFAIRS

Privacy Act of 1974

AGENCY: Department of Veterans Affairs (VA).

ACTION: Notice of a New System of Records.

SUMMARY: The Privacy Act of 1974 (5 U.S.C. 552(a)(e)) requires all agencies to publish in the Federal Register a notice of the existence and character of their systems of records. Notice is hereby given that the Department of Veterans Affairs (VA) is establishing a new system of records entitled “VA Child Care Subsidy Program Records-VA” (165VA05CCSP).

DATES: Comments on this new system of records must be received no later than October 5, 2012 If no public comment is received during the period allowed for comment, or unless otherwise published in the Federal Register by the VA, the new system will become effective October 5, 2012.

ADDRESSES: Written comments concerning the proposed new system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8 a.m. and 4:30 p.m., Monday through Friday (except holidays). Please call (202) 461-4902 (this is not a toll-free number) for an appointment.

FOR FURTHER INFORMATION CONTACT: The Office of Human Resources Management, Privacy Officer, Department of Veterans Affairs, 810 Vermont Avenue NW., Washington, DC 20420, telephone (202) 461-7863.

SUPPLEMENTARY INFORMATION: VA proposes to establish this new system of records, entitled “Child Care Subsidy Program-VA” (165VA05CCSP). This system will contain personal information submitted by lower-income employees who apply for VA child care subsidy benefits. This information will be used to establish and verify eligibility and the amount of the subsidy. The information will come from application forms and supporting documentation submitted by and on behalf of VA employees.

The notice of intent to publish and an advance copy of the system notice have been sent to the appropriate congressional committees and to the Director of the Office of Management and Budget (OMB) as required by 5 U.S.C. 552a(r) (Privacy Act) and guidelines issued by OMB (65 FR 77677), December 12, 2000.

Approved: July 5, 2012.
John R. Gingrich,
Chief of Staff, Department of Veterans Affairs.

165VA05CCSP

SYSTEM NAME:

“Child Care Subsidy Program—VA”

SYSTEM LOCATION:

Applications to participate in the Department of Veterans Affairs (VA) Child Care Subsidy Program are currently submitted through the field facility Human Resources offices. The records are then shipped or submitted electronically to the VA Central Office Child Care Subsidy Program Service (05CCSP). Policy issues concerning this program should be submitted to the Work life and Benefits Service (058) at 810 Vermont Avenue NW., Washington, DC 20420.

CATEGORIES OF INDIVIDUALS COVERED BY THE SYSTEM:

Employees of the VA who voluntarily apply for child care subsidy program.

CATEGORIES OF RECORDS IN THE SYSTEM:

Application forms for child care subsidy program contains personal information, including employee (parent) name, social security number, pay grade, telephone numbers, total family income, names of children on whose behalf the parent is applying for subsidy, children's dates of birth; information on child care providers used, including day care provider's names, addresses, provider license numbers and States where issued, and provider tax identification number; and copies of IRS Form 1040 and 1040A for verification purposes.

AUTHORITY FOR MAINTENANCE OF THE SYSTEM:

Public Law 1 06-58, Section 643 and Executive Order 9397

PURPOSE(S)

To establish and verify VA employees' eligibility for child care subsidies in order for VA to provide monetary assistance to its employees.

ROUTINE USES OF RECORDS MAINTAINED IN THE SYSTEM, INCLUDING CATEGORIES OF USERS AND THE PURPOSES OF SUCH USES:

1. For Law Enforcement Purposes—To disclose pertinent information to the appropriate Federal, State, or local agency responsible for investigating, prosecuting, enforcing, or implementing a statute, rule, regulation, or order, where VA becomes aware of an indication of a violation or potential violation of civil or criminal law or regulation.

2. For Congressional Inquiry—To provide information to a congressional office from the record of an individual in response to an inquiry from that congressional office made at the request of that individual.

3. For Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

4. For National Archives and Records Administration and General Services Administration—To disclose to the National Archives and Records Administration and the General Services Administration in records management inspections conducted under authority of Title 44 of the U.S. Code.

5. Within VA for Statistical/Analytical Studies—By VA in the production of summary descriptive statistics and analytical studies in support of the function for which records are collected and maintained, or for related workforce studies. While published studies do not contain individual identifiers, in some instances the selection of elements of data included in the study may be structured in such a way as to make the data individually identifiable by inference.

6. For Litigation—To disclose information to the Department of Justice, or in a proceeding before a court, adjudicative body, or other administrative body before which VA is authorized to appear, when: (1) VA, or any component thereof; or (2) Any employee of VA in his or her official capacity; or (3) Any employee of VA in his or her individual capacity where the Department of Justice or VA has agreed to represent the employee; or (4) The United States, when VA determines that litigation is likely to affect VA or any of its components; is a party to litigation or has an interest in such litigation, and the use of such records by the Department of Justice or VA is deemed by VA to be relevant and necessary to the litigation provided, however, that the disclosure is compatible with the purpose for which records were collected.

7. For the Merit Systems Protection Board—To disclose information to officials of the Merit Systems Protection Board or the Office of the Special Counsel, when requested in connection with appeals, special studies of the civil service and other merit systems, review of VA rules and regulations, investigations of alleged or possible prohibited personnel practices, and such other functions, e.g., as promulgated in 5 U.S.C. 1205 and 1206, or as may be authorized by law.

8. For the Equal Employment Opportunity Commission—To disclose information to the Equal Employment Opportunity Commission when requested in connection with an investigation into alleged or possible discrimination practices in the Federal sector, compliance by Federal agencies with the Uniform Guidelines on Employee Selection Procedures or other functions vested in the Commission and to otherwise ensure compliance with the provisions of 5 U.S.C. 7201.

9. For the Federal Labor Relations Authority—To disclose information to the Federal Labor Relations Authority or its General Counsel when requested in connection with investigations of allegations of unfair labor practices or matters before the Federal Service Impasses Panel.

10. For Non-Federal Personnel—To disclose information to contractors, grantees, or volunteers performing or working on a contract, service, grant, cooperative agreement, or job for the Federal government.

POLICIES AND PRACTICES FOR STORING, RETRIEVING, ACCESSING, RETAINING, AND DISPOSING OF RECORDS IN THE SYSTEM:

STORAGE:

Information may be collected on paper or electronically and may be stored as in paper or electronic format.

RETRIEVABILITY:

By name; may also be cross-referenced to social security number or other personal identifying number.

SAFEGUARDS:

When not in use by an authorized person, paper records are stored in lockable file cabinets or secured rooms. Electronic records are protected by the use of passwords.

RETENTION AND DISPOSAL:

Disposition of records is according to the National Archives and Records Administration guidelines.

SYSTEM MANAGER(S) ADDRESS:

Director, Child Care Subsidy Program Office, Office of Human Resources Management, 810 Vermont Avenue NW., Washington, DC 20420.

NOTIFICATION PROCEDURE:

Individuals may submit a request on whether a system contains records about them to the system manager indicated. Individuals must furnish the following for their records to be located and identified:

a. Full name

b. Social Security Number

RECORD ACCESS PROCEDURE:

Individuals wishing to request access to records about them should contact the system manager indicated. Individuals must provide the following information for their records to be located and identified:

a. Full name

b. Social Security Number

Individuals requesting access must also follow the Office of Personnel Management's Privacy Act Regulations regarding verification of identity and amendment of records (5 CFR, Part 297).

CONTESTING RECORDS PROCEDURE:

Individuals wishing to request amendment of records about them should contact the system manager indicated. Individual must furnish the following information for their records to be located and identified:

a. Full name

b. Social Security Number

Individuals requesting amendment must also follow the Office of Personnel Management's Privacy Act Regulations regarding verification of identity and amendment of records (5 CFR part 297).

RECORD SOURCE CATEGORIES:

Information is provided by VA employees who apply for child care subsidy. Furnishing the information is voluntary.

[FR Doc. 2012-21792 Filed 9-4-12; 8:45 am]

BILLING CODE 8320-01-P